DEPARTMENT OF THE INTERIOR

National Park Service

Notice of Intent To Prepare a Feasibility Study and Environmental Impact Statement for Everglades National Park (Park) To Evaluate Modifications to the Tamiami Trail

SUMMARY: Notice is hereby given, in accordance with the provisions of the National Environmental Policy Act (NEPA) of 1969 (42 U.S.C. 4321 et seq.), that the NPS is preparing a Feasibility Study and EIS to “evaluate the feasibility of additional bridge length, beyond that to be constructed pursuant to the Modified Water Deliveries to Everglades National Park Project (16 U.S.C. 410r-S), including a continuous bridge, or additional bridges or some combination thereof, for the Tamiami Trail (United States Highway 41) to restore more natural water flow to Everglades National Park and Florida Bay and for the purpose of restoring habitat within the Park and the ecological connectivity between the Park and the Water Conservation Areas” (2009 Omnibus Appropriations Act). The NPS is the lead agency on this federal action; however, the NPS has requested the United States Army Corps of Engineers (USACOE) be a cooperating agency on this effort, with the Federal Highway Administration (FHWA) providing technical assistance.

DATES: Written comments regarding the proposed project must be postmarked no later than 30 days from the publication of this Notice of Intent (NOI) in the Federal Register. As part of this process, public workshops will be held to solicit public input about the proposed project. The date, time, and location of the public workshops will be announced in the newspaper Miami Herald and through the NPS Planning, Environment, and Public Comment (PEPC) Web site http://parkplanning.nps.gov.

ADDRESSES: Written comments should be addressed to: National Park Service, Attention Pat Kenney, Denver Service Center, Planning Division, P.O. Box 25287, Denver, Colorado 80225-0287. Comments may also be submitted via the PEPC Web site using the links provided below. General information about the proposed project is available at the office of the Superintendent, Everglades National Park, 40001 State Road 9336, Homestead, Florida 33034. Additionally, interested persons may view the PEPC Web site: http://parkplanning.nps.gov, then select “Everglades NP” from the drop down box.

Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

FOR FURTHER INFORMATION CONTACT: Dan B. Kimball Superintendent, Everglades and Dry Tortugas National Parks, 40001 SR 9336, Homestead, FL 33034 or by telephone at 305-242-7800.

SUPPLEMENTARY INFORMATION: a. Authorization: This project is authorized under the 2009 Omnibus Appropriations Act.

b. Project Scope: The 2009 Omnibus Appropriations Act directs the Secretary of the Interior, acting through the NPS, to immediately “evaluate the feasibility of additional bridge length, beyond that to be constructed pursuant to the Modified Water Deliveries to Everglades National Park Project (16 U.S.C. 410r-S), including a continuous bridge, or additional bridges or some combination thereof, for the Tamiami Trail (United States Highway 41) to restore more natural water flow to Everglades National Park and Florida Bay and for the purpose of restoring habitat within the Park and the ecological connectivity between the Park and the Water Conservation Areas.”

Specific Objectives include:

• Provide for substantial increases in flows under the Tamiami Trail to Northeast Shark River Slough in the Park in order to restore the natural resources and processes in the park.

• Remove obstructions to sheet flow between Water Conservation Area 3 and the Park.

• To the extent practicable, restore ecological conditions in Park.

• Ensure compatibility with other pre-Comprehensive Everglades Restoration Plan (CERP) and future CERP projects.

• Identify seepage management requirements associated with the recommended plan.

c. Preliminary Alternatives: The previously examined alternatives in the 2005 Revised General Reevaluation Report will be reevaluated and modified. In addition, the environmental, engineering, real estate, and cost estimates will be revised.

d. Issues: The Integrated Feasibility Study/EIS will consider impacts on health and safety, aesthetics and recreation, cultural resources, socio-economic resources, hydrology, water quality, ecosystem habitat, fish and wildlife resources, threatened and endangered species, and construction costs.

e. Scoping: In order to develop a realistic plan, NPS will seek input from other resource and technical agencies and stakeholders, including the Miccosukee Tribe of Indians of Florida, Seminole Tribe of Florida and Seminole Tribe of Oklahoma, the South Florida Water Management District, the Florida Department of Transportation, Florida Department of Environmental Protection, State Historic Preservation Office (SHPO) and the FHWA. The final recommended plan will take into consideration the Integrated Schedule developed with the policy guidance of the South Florida Ecosystem Restoration Task Force and will be consistent with the National Academy of Sciences recommendations for Incremental Adaptive Restoration. The Park, as the project lead, will be responsible for completion of the final report, including all technical analyses and NEPA requirements. This scope may be amended by the agreement of the parties.

f. Public Involvement: Public scoping meetings and workshops will be held over the course of the study; the exact locations, dates, and times will be announced in public notices and local newspapers. Public meetings will be held after release of the Draft EIS; the exact locations, dates, and times will be announced in a public notice and local newspapers.

g. Coordination: The proposed action is in accordance with the Fish and Wildlife Coordination Act of 1958 and the Endangered Species Act of 1973. The coordinating agencies include the United States Fish and Wildlife Service, Florida Fish and Wildlife Conservation Commission, Florida Department of Environmental Protection, South Florida Water Management District, Miccosukee Tribe of Indians of Florida, Seminole Tribe of Florida, Seminole Tribe of Oklahoma, USACOE, and FHWA.

h. Other Environmental Review and Consultation: The proposed action would involve evaluation for compliance with guidelines pursuant to Section 404(b) of the Clean Water Act, the National Historic Preservation Act, and any other applicable law.

i. Agency Role: As a cooperating agency, the USACOE will provide extensive information and assistance updating the environmental, engineering, real estate, and cost/benefit analyses for all alternatives.

j. EIS Preparation: The draft Integrated Feasibility Study/EIS is currently estimated for publication in March 2010.

Authority: The authority for publishing this notice is contained in 40 CFR 1506.6.

Dated: May 5, 2009.
Art Frederick,
Acting Regional Director, Southeast Region, National Park Service.

[FR Doc. E9-12507 Filed 5-28-09; 8:45 am]

BILLING CODE 4310-70-P